DEPARTMENT OF JUSTICE

Notice of Lodging of Consent Decree Under the Comprehensive Environmental Response, Compensation, and Liability Act

Notice is hereby given that on December 12, 2011, a proposed Consent Decree in United States of America and District of Columbia v. Washington Gas Light Company, Civil Action No. 1:11-cv-02199-RMC, was lodged with the United States District Court for the District of Columbia.

In this action the United States and the District of Columbia sought to recover from Washington Gas Light Company response costs incurred or to be incurred by the National Park Service, the United States Department of the Interior, the United States Environmental Protection Agency, and the District Department of the Environment in responding to releases or threatened releases of hazardous substances at or from the Washington Gas East Station Site, located in Washington, DC (the “Site”).

The Consent Decree requires Washington Gas to reimburse past response costs in the amounts of $500,000.00 to the National Park Service and the U.S. Department of the Interior; $160,000.00 to the U.S. Environmental Protection Agency; and $70,673.62 to the District of Columbia. The Consent Decree also requires Washington Gas to pay all future costs incurred by the United States and the District of Columbia in connection with the Site.

Washington Gas is required to implement a soil remedy at the Site set forth in a Record of Decision issued by the National Park Service in 2006 (“ROD”). As set forth in the ROD, Washington Gas is required to continue operating its existing pump-and-treat system for the control and removal of hazardous substances in groundwater. Washington Gas will perform a remedial investigation and feasibility study to further determine the nature and extent of Site contamination in the groundwater and surface water and sediments in the Anacostia River. The feasibility study will identify and evaluate remedial alternatives and, if necessary, identify a further remedial action for the groundwater and River. The Consent Decree includes a covenant not to sue by the United States under Sections 106 and 107 of the Comprehensive Environmental Response, Compensation and Liability Act, 42 U.S.C. 9601 et seq. (“CERCLA”), and under Section 7003 of the Resource Conservation and Recovery Act (“RCRA”), 42 U.S.C. 6973.

The Department of Justice will receive for a period of sixty (60) days from the date of this publication comments relating to the Decree. Comments should be addressed to the Assistant Attorney General, Environmental and Natural Resources Division, and either emailed to pubcomment-ees.enrd@usdoj.gov or mailed to P.O. Box 7611, U.S. Department of Justice, Washington, DC 20044-7611, and should refer to United States of America and District of Columbia v. Washington Gas Light Company, Civil Action No. 1:11-cv-02199-RMC (D.D.C.), D.J. Ref. 90-11-2-08557/2. Commenters may request an opportunity for a public meeting in the affected area, in accordance with Section 7003(d) of RCRA.

During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or emailing a request to Tonia Fleetwood (tonia.fleetwood@usdoj.gov), fax number (202) 514-0097, phone confirmation number (202) 514-1547. In requesting a copy from the Consent Decree Library, please enclose a check in the amount of $71.25 (25 cents per page reproduction cost) payable to the U.S. Treasury or, if by email or fax, forward a check in that amount to the Consent Decree Library at the stated address. In requesting a copy exclusive of exhibits and defendants' signatures, please enclose a check in the amount of $13.75 (25 cents per page reproduction cost) payable to the U.S. Treasury.

Robert Brook,
Assistant Chief, Environmental Enforcement Section, Environment and Natural Resources Division.

[FR Doc. 2011-32241 Filed 12-15-11; 8:45 am]

BILLING CODE 4410-15-P